DEPARTMENT OF ENERGY

Federal Energy Regulatory Commission

Combined Notice of Filings #1

Take notice that the Commission received the following exempt wholesale generator filings:

Docket Numbers: EG24-134-000.

Applicants: KCE TX 15, LLC.

Description: KCE TX 15, LLC submits Notice of Self-Certification of Exempt Wholesale Generator Status.

Filed Date: 3/14/24.

Accession Number: 20240314-5172.

Comment Date: 5 p.m. ET 4/4/24.

Docket Numbers: EG24-135-000.

Applicants: KCE TX 10, LLC.

Description: KCE TX 10, LLC submits Notice of Self-Certification of Exempt Wholesale Generator Status.

Filed Date: 3/14/24.

Accession Number: 20240314-5173.

Comment Date: 5 p.m. ET 4/4/24.

Take notice that the Commission received the following Complaints and Compliance filings in EL Dockets:

Docket Numbers: EL24-89-000.

Applicants: NV Energy v. California Independent System Operator Corporation.

Description: Complaint of NV Energy v. California Independent System Operator Corporation.

Filed Date: 3/15/24.

Accession Number: 20240315-5038.

Comment Date: 5 p.m. ET 4/4/24.

Take notice that the Commission received the following electric rate filings:

Docket Numbers: ER24-1497-000.

Applicants: Southwest Power Pool, Inc.

Description: § 205(d) Rate Filing: 4233 OG&E and NextEra Energy Transmission Southwest Int Agr to be effective 5/31/2024.

Filed Date: 3/15/24.

Accession Number: 20240315-5007.

Comment Date: 5 p.m. ET 4/5/24.

Docket Numbers: ER24-1498-000.

Applicants: PJM Interconnection, L.L.C.

Description: § 205(d) Rate Filing: Amendment to WMPA No. 5997 AF1-249 (mcd) to be effective 5/14/2024.

Filed Date: 3/15/24.

Accession Number: 20240315-5044.

Comment Date: 5 p.m. ET 4/5/24.

Docket Numbers: ER24-1499-000.

Applicants: Entergy Services, LLC, Entergy Arkansas, LLC, Entergy Louisiana, LLC, Entergy Mississippi, LLC, Entergy New Orleans, LLC, Entergy Texas, Inc.

Description: § 205(d) Rate Filing: Entergy Services, LLC submits tariff filing per 35.13(a)(2)(iii: MSS-4R Amendment to Include and Allocate NOL ADIT for EAL to be effective 5/14/2024.

Filed Date: 3/15/24.

Accession Number: 20240315-5059.

Comment Date: 5 p.m. ET 4/5/24.

Docket Numbers: ER24-1507-000.

Applicants: FirstEnergy Service Company, PJM Interconnection, L.L.C.

Description: § 205(d) Rate Filing: FirstEnergy Service Company submits tariff filing per 35.13(a)(2)(iii: FirstEnergy Service Co. submits one Construction Agreement SA No. 6633 to be effective 5/15/2024.

Filed Date: 3/15/24.

Accession Number: 20240315-5112.

Comment Date: 5 p.m. ET 4/5/24.

Docket Numbers: ER24-1509-000.

Applicants: Idaho Power Company.

Description: § 205(d) Rate Filing: Third Revised Service Agreements 324 and 342 to be effective 7/1/2024.

Filed Date: 3/15/24.

Accession Number: 20240315-5120.

Comment Date: 5 p.m. ET 4/5/24.

Docket Numbers: ER24-1510-000.

Applicants: Central Maine Power Company.

Description: Tariff Amendment: Notice of Termination of Engineering and Procurement Agreement with FPL Wyman to be effective 3/15/2024.

Filed Date: 3/15/24.

Accession Number: 20240315-5127.

Comment Date: 5 p.m. ET 4/5/24.

Docket Numbers: ER24-1513-000.

Applicants: Pacific Gas and Electric Company.

Description: § 205(d) Rate Filing: North of Mesa Abandoned Transmission Plant Cost Recovery Request—TO21 to be effective 5/15/2024.

Filed Date: 3/15/24.

Accession Number: 20240315-5180.

Comment Date: 5 p.m. ET 4/5/24.

Docket Numbers: ER24-1516-000.

Applicants: Public Service Company of New Mexico.

Description: Baseline eTariff Filing: PNM Reserve Eenrgy Service Tariff—FERC Electric Tariff, Volume No. 9 to be effective 5/1/2024.

Filed Date: 3/15/24.

Accession Number: 20240315-5208.

Comment Date: 5 p.m. ET 4/5/24.

Docket Numbers: ER24-1518-000.

Applicants: Nevada Power Company.

Description: § 205(d) Rate Filing: Amendment to MBR Seller Category Designation Alternatively Request for Exemption to be effective 3/14/2024.

Filed Date: 3/15/24.

Accession Number: 20240315-5224.

Comment Date: 5 p.m. ET 4/5/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 15, 2024.
Debbie-Anne A. Reese,
Acting Secretary.

[FR Doc. 2024-06039 Filed 3-20-24; 8:45 am]

BILLING CODE 6717-01-P